DEPARTMENT OF DEFENSE

Department of the Army; Corps of Engineers

Intent To Grant an Exclusive License to Sediment Control Systems, Inc.

AGENCY: Department of the Army, U.S. Corps of Engineers, DoD.

ACTION: Notice of intent.

SUMMARY: In accordance with 37 CFR 404.7(a)(1)(i), announcement is made of a prospective exclusive license of the U.S. patent 6,584,709 which is more fully described in SUPPLEMENTARY INFORMATION section

DATES: Written objections must be filed not later than July 13, 2004.

ADDRESSES: Send written objections to: United States Army Engineer Research and Development Center, Cold Regions Research and Engineering Laboratory, 7701 Telegraph Road, Kingman Building, Alexandria, VA 22315-3860.

FOR FURTHER INFORMATION CONTACT: Ms. Sharon Borland, ATTN: CEERD-ZA-TT; (703) 428-9112, FAX (703) 428-6275; e-mail: Sharon.L.Borland@usace.army.mil.

SUPPLEMENTARY INFORMATION: Patent No. 6,584,709 entitled “Device for Removing Sludge from the Bottom of a Lagoon”, inventors C. James Martel, Jr. and Dennis J. Lambert, issued July 1, 2003. The United States of America as represented by the Secretary of the Army intends to grant an exclusive license in the manufacture, use, and sale of the patented technology in the territories and possessions of the U.S.A., to Sediment Control Systems, Inc., 454 Shaker Blvd, Enfield, NH 03748. Pursuant to 37 CFR 404.7(b)(1)(I), any interested party may file a written objection to this prospective exclusive license agreement.

Richard L. Frenette,
Counsel.

[FR Doc. 04-14549 Filed 6-25-04; 8:45 am]

BILLING CODE 3710-92-M